DEPARTMENT OF COMMERCE

National Oceanic and Atmospheric Administration

RIN 0648-XR19

North Pacific Fishery Management Council; Public Meetings

AGENCY: National Marine Fisheries Service (NMFS), National Oceanic and Atmospheric Administration (NOAA), Commerce.

ACTION: Notice of public meetings.

SUMMARY: The North Pacific Fishery Management Council (Council) Observer Advisory Committee (OAC) will meet at the Alaska Fishery Science Center (AFSC), Traynor Conference Center.

DATES: The meetings will be held September 21-22, 2009, from 8:30 a.m. to 5 p.m.

ADDRESSES: The meetings will be held at the Alaska Fishery Science Center, 7600 Sand Point Way NE, Bldg 4, Traynor Conference Center, Seattle, WA 98115.

Council address: North Pacific Fishery Management Council, 605 W. 4th Ave., Suite 306, Anchorage, AK 99501-2252.

FOR FURTHER INFORMATION CONTACT: Nicole Kimball, Council staff, telephone: (907) 271-2809.

SUPPLEMENTARY INFORMATION: The primary purpose of the committee meeting is to review a NMFS implementation plan to establish a new program for observer procurement and deployment in the North Pacific Observer Program, as well as review a timeline for implementation. The committee will discuss the plan, and provide feedback and/or recommendations to the North Pacific Fishery Management Council.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: August 24, 2009.
Tracey L. Thompson,
Acting Director, Office of Sustainable Fisheries, National Marine Fisheries Service.

[FR Doc. E9-20691 Filed 8-26-09; 8:45 am]

BILLING CODE 3510-22-S